DEPARTMENT OF STATE

[Public Notice: 10310]

Office of the Under Secretary of State for Public Diplomacy and Public Affairs Request for Proposal (RFP) for the Fundraising, Project Management, Design, Construction, Operation, Disassembly and Removal of a USA Pavilion at Expo 2020 Dubai

AGENCY: Department of State.

ACTION: Request for Proposals for the Design, Development, Installation, Operation, and Final Disposition of a U.S. Pavilion at Expo Dubai 2020.

SUMMARY: The Expo Unit within the Office of the Under Secretary of State for Public Diplomacy and Public Affairs of the U.S. Department of State requests proposals from private U.S. individuals, firms, associations, educational institutions, and organizations (for profit and non-profit) for the fundraising, project management, design, construction, operation, and disassembly and removal of a USA Pavilion at Expo 2020 Dubai, in the United Arab Emirates (UAE) (https://expo2020dubai.ae/). The UAE is a strong U.S. partner, and the largest export market for U.S. goods and services in the Middle East. The six-month long Expo 2020 Dubai from October 2020-April 2021 will be the first Expo (also known as World's Fair) to take place in the Middle East, North Africa, or South Asia and is expected to attract 25 million visitors and coincides with the UAE's 50th founding anniversary. Proposals from non-U.S. citizens or non-U.S. firms or organizations shall be deemed ineligible for consideration.

DATES: Submit proposals on or before April 17, 2018.

FOR FURTHER INFORMATION CONTACT: Matthew Asada, Dubai Expo 2020 Project Manager, at expo@state.gov or by phone at: (202) 647-9905.

SUPPLEMENTARY INFORMATION:

I. Description of Project

Authority

Overall authority for Department of State support for U.S. participation in international expositions is contained in Section 102(a)(3) of the Mutual Educational and Cultural Exchange Act of 1961, as amended (22 U.S.C. 2452(a)(3)), also known as the Fulbright-Hays Act. The purpose of the Act is “to enable the Government of the United States to increase mutual understanding between the people of the United States and the people of other countries . . . to strengthen the ties which unite us with other nations by demonstrating the educational and cultural interests, developments, and achievements of the people of the United States and other nations . . . and thus to assist in the development of friendly, sympathetic and peaceful relations between the United States and the other countries of the world.” Pursuant to this authority, the Secretary of State has authorized the Under Secretary of State for Public Diplomacy and Public Affairs to provide for U.S. participation in international expositions abroad. The Expo Unit, in the Office of the Under Secretary for Public Diplomacy and Public Affairs, will represent the U.S. Government in dealings with the organizers of Expo 2020 Dubai and serve as the primary point of contact with the selected applicant.

Background

Expo 2020 Dubai is a large-scale, universal exposition (also known as a World's Fair) registered by the Bureau of International Expositions (BIE). The BIE is an international treaty organization established to regulate certain international exhibitions. The United States rejoined the BIE on May 10, 2017. Invitations to world's fairs are extended from the host government to other governments.

The Government of the United Arab Emirates (UAE) has invited the United States to participate in Expo 2020 Dubai and, on October 19, 2017, the Secretary of State informed the UAE Government of the U.S. Government's intention to participate with an official USA Pavilion, contingent upon identification of a viable private sector partner and successful fundraising efforts. The Expo officially opens on October 20, 2020, and closes on April 10, 2021.

With a projected 25 million visitors, 70 percent of whom will come from outside of the UAE, Expo 2020 Dubai offers an excellent opportunity to inform and inspire foreign audiences—especially those residing in the Middle East, South Asia, and East Asia—about the United States, its people, values and foreign policies, and to promote U.S. economic and commercial interests. Expo 2020 Dubai is the first World's Fair hosted in the Middle East. U.S. participation in Expo 2020 Dubai would reconfirm the strength and importance of U.S.-UAE bilateral ties and promote mutual understanding between Americans and peoples of the region.

Content

The theme of Expo 2020 Dubai is Connecting Minds, Creating the Future, representing the potential of what can be achieved when meaningful collaborations and partnerships are forged. The Expo's subthemes are Opportunity, Mobility, and Sustainability reflecting the timeless drivers of progress that continue to inspire people, organizations, and nations in their endeavors to create a better future. A detailed description of the themes and their meaning is available in the Expo 2020 Participant Guide. The USA Pavilion should emphasize the “Mobility” sub-theme and the pavilion's architecture and interior design should communicate American progress, ingenuity, and innovation in social, physical, and mechanical (transportation) mobility.

U.S. Direction

The USA Pavilion at Expo 2020 Dubai will be an official representation of the United States; the Department must therefore ensure that the USA Pavilion is nonpolitical and nonpartisan in nature, of the highest possible quality, and balanced and representative of the diversity of American political, social, and cultural life. The USA Pavilion must maintain the highest level of scholarly integrity and meet the highest standards of artistic achievement and academic excellence. It should also be entertaining and interactive. The USA Pavilion will be used to promote U.S. commercial interests, U.S. foreign policy, as well as highlight outstanding U.S. cultural, scientific, technological, and artistic achievement.

Funding and Fundraising Limitations

Section 204 of Public Law 106-113 (22 U.S.C. 2452b) limits the support the Department of State may provide for U.S. participation in international expositions registered by the Bureau of International Expositions (BIE). This includes Expo 2020 Dubai. This Request for Proposals is intended to help identify a private U.S. individual, firm, association, or organization interested in, and capable of, providing a complete Pavilion/exhibit at Expo 2020 Dubai as a gift to the United States Government. The Department of State is not authorized to provide funding for the U.S. Pavilion at Expo 2020 Dubai.

Section 5 of Public Law 115-32 (22 U.S.C. 2452b note) prohibits Department of State employees from soliciting funds to pay expenses for a U.S. pavilion or other major exhibit at any exposition registered by the BIE.

Planning, budgeting, and operating a U.S. pavilion at a Bureau of International Expositions-recognized international exposition is a complicated, multi-year project. Cost for a representative USA Pavilion for Expo 2020 Dubai is estimated at 50-60 million USD and will be the sole responsibility of the selected organization.

The successful applicant will be responsible for all costs associated with the USA Pavilion including its fundraising, project management, design, construction, operation, and disassembly and removal of, as well as any claims arising from, the exhibit at the end of the Expo, as well as all support for the U.S. Commissioner General. The successful proposer will consult closely with and follow the guidance of Department officials and the U.S. Commissioner General with respect to Pavilion content, fundraising, and programming. The USA Pavilion shall be considered on loan to the U.S. Government. The aforementioned loan shall be treated as a gift to the U.S. Government. The U.S. Department of State is not authorized to provide federal funding for any aspect of the USA Pavilion at Expo 2020 Dubai.

The successful applicant must be able to demonstrate to the U.S. Department of State that it can raise the funds necessary to complete the project. Only after the applicant is able to secure sufficient seed funding, to be determined based on the successful applicant's proposed budget, and demonstrate viable future revenue streams will the U.S. Department of State sign a Memorandum of Agreement (MOA) with that applicant. The Department would subsequently sign a Participation Contract with the UAE's Bureau Expo Dubai 2020 (Expo Organizer).

Expo Guidelines

For information regarding the guidelines for developing the exhibits, themes, and the design and construction of a pavilion, please refer to documents produced by the Expo 2020 Dubai Organizer, including the Theme Guide, Participant Guide, and Self-build Guide available at: https://www.state.gov/r/. Exhibit content, and food and beverage offerings, should be sensitive to prevailing cultural norms and in accordance with Dubai municipal regulations.

Purpose of RFP

The purpose of this request for proposal is to find a private sector partner who will serve as the U.S. Government's fundraiser and project manager for U.S. participation in Expo 2020. This entails three main tasks: (1) Raise all the funds needed to cover the costs of the USA Pavilion at Expo 2020 Dubai; (2) manage the USA Pavilion project; and (3) conduct all operations associated with the USA Pavilion.

(1) Fundraising

As described above, the Department of State is prohibited from using its appropriated funds for the USA Pavilion at Expo 2020 Dubai and the Department's employees are prohibited from soliciting funds to pay for expenses of the USA Pavilion. Therefore, all funds for the establishment and operation of the USA Pavilion must come from other sources. It will be the responsibility of the selected entity to identify prospective sponsors, solicit the funds, and conclude sponsorship agreements. The Department must approve the selected entity's fundraising plan, process, and marketing materials.

Non-profit organizations must have nonprofit status with the IRS, or have applied for such status, at the time of application.

Once the nonprofit status of the selected proposer is confirmed, and if the proposer satisfies the U.S. citizenship requirements, the Department will issue a “Letter of Intent” to the selected organization authorizing it to proceed with fundraising to fund the USA Pavilion project. The letter will include guidelines on fundraising to be followed by the selected organization. Note that all prospective donors must be vetted by the Department of State pursuant to the Foreign Affairs Manual (2 FAM 962.1 Authority to Solicit and Accept Gift Funds https://fam.state.gov/FAM/02FAM/02FAM0960.html). Once the selected entity has raised sufficient seed funding to provide for U.S. participation at Expo Dubai 2020, the Department of State will sign a Memorandum of Agreement (MOA) with the selected organization.

It is estimated that a representative USA pavilion will cost between 50 and 60 million USD, depending on final design, construction, and programming. The costs, described in greater detail below, include, but are not limited to:

• Design and construction of a building to house the exhibition and provide an appealing welcome on the exterior facade; provide exterior landscaping; incorporate appropriate internal and external crowd control features;

• Design of the exhibition and development of the story line;

• Raising all necessary funds;

• Production of exhibits, audio-visual materials, films, DVDs, videos, posters and other promotional materials needed for the exhibit;

• Development and implementation of a media engagement and communications plan to promote and advertise the USA Pavilion to U.S. and foreign audiences, before and during Expo 2020;

• All administrative, personnel and exhibit costs, including salaries, benefits, staff housing expenses, contracting and supplier costs and consulting fees as well as funding associated with guides, escorts, and protocol gifts;

• Transport, travel, insurance, postage and shipping fees of all pavilion materials;

• Security, development and implementation of a security program for the USA Pavilion in consultation with the State Department and appropriate UAE authorities;

• Tear-down, including removal of exhibits, and return of the pavilion lot in the condition required by the Expo organizers; final disposition plan must be approved by the Expo Unit;

• Cultural and informational programs associated with the exhibition, including, but not limited to, production of U.S. National Day activities (each participating country has a national day celebration at some point during the six-month fair);

• Funding all expenses associated with the U.S. Commissioner General; and,

• Creation and staffing of facilities devoted to hosting VIPs visiting the USA Pavilion.

(2) Project Management

The selected organization would be responsible for all aspects of providing for U.S. participation in Expo 2020 Dubai. This includes, but is not limited to, (a) design, (b) construction and removal, (c) staffing, (d) programming, and (e) supporting the U.S. Commissioner General:

a. Design of USA Pavilion

The pavilion will be the physical representation of the United States, and therefore should be worthy of representing our country and its people. The architecture and interior design of the USA Pavilion must reflect the theme of Expo 2020 Dubai, Connecting Minds, Creating the Future, described above. The USA Pavilion and exhibition must maintain the highest level of scholarly integrity and meet the highest standards of artistic achievement and academic excellence. The design concept for the USA Pavilion exhibition should appeal to a general, non-expert audience.

The two main components to the design of the USA Pavilion are (i) architecture and (ii) interior design:

i. Architecture

National pavilions are closely associated with their architecture. The design of the USA Pavilion should be spectacular, and worthy of carrying the name of the United States. The applicant should describe how they plan to create a design that is inspiring, while remaining cost-efficient. The successful applicant will be encouraged to hold a national design competition.

ii. Interior Design

The concept for the pavilion structure should include an exhibition area, a live performance area, a VIP hospitality area, and administration/staff area. Food, beverage, and retail offerings can be considered, but are not required. The exhibition area is where the Expo's theme and sub-themes communicate American creativity, innovation and ingenuity to the visitors. Successful exhibits are those that communicate a message, are informative, but are also interactive and fun. The selected organization must also ensure that the exhibits are nonpolitical in nature and are of the highest possible quality. The VIP hospitality area should provide a reception space to support symposia, meetings, receptions, and delegations that advance economic and public diplomacy goals of the United States.

In designing the USA Pavilion, the selected entity is encouraged to translate the theme into an authentic portfolio of stories and perspectives that highlight the interconnections between the subthemes in a way that engages visitors of all ages. The selected entity will consult with the Department of State's Expo Unit for approval on all final designs, exhibit content, programmatic activities, and communications products.

In responding to this Request for Proposal, applicants should include a two-page Theme Statement that explains design, components and content of the USA Pavilion (per Annex) by the initial application due date. The submission should define the overall theme and the exhibits that will make up the pavilion, providing a general overview of the proposed strategy, thematic content, installations, events, and architectural expression of the pavilion. The selected organization will be required to develop a more detailed and final Theme Statement for approval by the Expo Unit followed by full design proposals for the USA Pavilion—Concept and Final—no later than June 30, 2019.

b. Construction and Removal of USA Pavilion

After the approval of the designs, and with necessary funding in hand, the selected entity will be responsible for constructing the USA Pavilion in Dubai in accordance with the specifications listed in the Organizer's Self-Build Pavilions Guide. Ideally, such a pavilion will meet the specifications for a “Large” or an “Extra Large” pavilion, but proposals should specify what size they recommend. The USA Pavilion can comprise one or more buildings. Construction of the pavilion's shell and core must be completed by October 2019. Interior work must be complete by July 2020 and exhibits must be installed by September 2020.

The selected entity is also responsible for the dismantling and removal of the USA Pavilion after conclusion of the Expo in April 2021.

The overall budget, including construction, must be reviewed by the Expo Unit before work can start, and the entity must consult with the Expo Unit before undertaking any changes in budget line items greater than $50,000. The implementing partner will be encouraged to establish an escrow account or obtain insurance to ensure that removal of the pavilion is completed.

c. Pavilion Staffing

Unlike other national pavilions that hire local workers to staff their pavilions, the U.S. pavilions have historically used American college students or recent graduates to staff the USA Pavilion as guides under a program called “Student Ambassadors.” For Dubai, applicants may also consider supplementing the Student Ambassador program with an additional cohort of alumni from U.S. Department of State exchange programs. Proposals must include a plan for funding, recruiting and managing student “ambassadors” and Department of State exchange alumni at the USA Pavilion. All Student Ambassadors, but not the exchange program alumni, must be U.S. citizens, from a diverse set of backgrounds and U.S. states, and ideally with two or more years of college-level Arabic language or area studies course work, or equivalent ability gained through family or residence in the Arab world. The selected organization is encouraged to partner with a U.S. higher education institution or cultural exchange program organization in the United States or abroad to manage the Student Ambassador and Exchange Alumni programs.

d. Programming

The selected organization will be responsible for all programming within the USA Pavilion. Proposals may include content and programming partnerships with a variety of community, educational, cultural, philanthropic, businesses, and non-profit organizations. Proposals are encouraged to identify potential linkages to existing State Department educational and cultural programs that could run concurrently with the USA Pavilion.

e. Supporting the U.S. Commissioner General

The selected organization will be responsible for supporting the U.S. Commissioner General, who will be appointed by the United States Government and serve as the official U.S. representative to Expo 2020. Details of this support will be specified in the Memorandum of Agreement (MOA).

(3) Operations

The successful proposer will be responsible for full operation of the USA Pavilion. This will include, but not be limited to, such areas as protocol, public affairs, sponsorship fulfillment, cultural programming, student guide services, communications, operations, security, cleaning, and maintenance. Office space must be adequate for the proposed number of staff.

II. Eligibility Information

Applications may be submitted by U.S.-based individuals, firms, associations, and public and private organizations, or groups of such entities formed for this project. Non-profit organizations must meet the provisions described in Internal Revenue Code section 26 U.S.C. 501(c)(3). Non-profit organizations must have nonprofit status with the IRS, or have applied for such status, at the time of application.

III. Application and Submission Information

1. Proposals

Proposals should be no longer than thirty-five (35) pages (single-spaced, single-sided) and outline, in as much detail as possible, plans for providing a pavilion and exhibition for the U.S. Government at Expo 2020 Dubai.

Proposals should include the following components:

1. Pavilion Theme Statement (2 pages max) explains design, components and content of the USA Pavilion in accordance with the Mobility sub-theme and the Expo 2020 Dubai Theme Guide.

2. Fundraising plan (3 pages)—How and when does the organization plan to reach the fundraising goals to cover the project? How does the organization plan to make use of sponsorship agreements to fund specific exhibits or the overall pavilion?

3. Project Management Plan (3 pages) that explains how the organization plans to accomplish all the tasks listed in the Project Management section. This plan should include specifics, including whether the organization plans to compete the different elements to sub-contractors, or if they plan to fulfill them in-house, and the process for each. This action plan should include the following sections:

a. Design of the USA Pavilion architecture and interior;

b. Construction procurement process; and

c. Disassembly and legacy (future use of the pavilion structure or exhibits).

4. Pavilion Designs (10 pages) A maximum of 5 conceptual designs of the proposed pavilion architecture and a maximum of 5 conceptual designs of the proposed interior fit-out.

5. Proposed Staffing Plan (3 pages) for management and staff before and during the expo, including envisioned Student Ambassador and Exchange Alumni programs. Provide biographic summaries of no more than one paragraph each of the architect, curator, designer, project manager, fundraiser, chief financial officer, and all other key personnel involved in the project.

6. Multi-year Operating Budget (4 pages) (narrative and chart in USD). A budget narrative should include an explanation of how the estimates were created (including but not limited to cost price analysis or past experience) for the major cost centers of the project. The operating budget should explain how early-stage operations of the project will be sustained prior to attaining major gifts and projected cash flow.

7. Track record (2 pages) of the organization's past fundraising and project management successes, a description of its resources, capabilities, key staff and their qualifications.

8. Timeline (3 pages) of the entire project.

9. Work Samples (5 pages) Submit up to 10 images of past architectural and design work.

Proposals must commit to:

• Adhere to the regulations and rules of Expo 2020 as stipulated by the Expo organizers (see participant guides), including restrictions and limitations related to construction;

• Consult closely with and follow the guidance of the U.S. Commissioner General, Expo Unit, and their designated representatives at the U.S. mission to the UAE;

• Operate in a transparent and financially responsible manner. This includes allowing the Commissioner General and Expo Unit insight into the budget and reporting on finances on a regular basis, with oversight of the Expo Unit, and seeking prior consultation before any expenditure or changes in budget line items greater than $50,000.

• Submit all contracts or sub-contracts contemplated to be awarded by the proposer to further the purposes of the USA pavilion that are in excess of $50,000 for review by the Expo Unit prior to their conclusion.

• Proposals should state clearly that all materials developed specifically for the project will be subject to prior review and approval by the Department.

• Proposals should state clearly that all fundraising plans, processes, and marketing materials will be subject to prior review and approval by the Department, including the need to have all potential donors vetted and approved by the Department.

2. Application Deadline and Methods of Submission

Application Deadline

Application Deadlines: April 17, 2018.

Submitting Applications

Responses must be submitted electronically and in hard copy.

An electronic version of the proposal submission must be sent to expo@state.gov. Please include “Expo 2020 Proposal—[Entity Name]” in the email subject field. The Expo Unit will acknowledge receipt of an electronic proposal.

Proposal submissions must also be sent via a nationally recognized overnight delivery service (i.e., DHL, Federal Express, UPS, Airborne Express, or U.S. Postal Service Express Overnight Mail, etc.) and be shipped no later than the above deadline. The delivery services used by applicants must have in-place, centralized shipping identification and tracking systems that may be accessed via the internet and delivery people who are identifiable by commonly recognized uniforms and delivery vehicles. Proposals shipped on or before the above deadline but received by the Expo Unit more than seven calendar days after the deadline will be ineligible for further consideration under this competition. Proposals shipped after the established deadlines are ineligible for consideration under this competition. It is each applicant's responsibility to ensure that each package is marked with a legible tracking number and to monitor/confirm delivery to the Expo Unit via the internet. The Expo Unit will not notify you upon receipt of a hard copy proposal. Delivery of proposal packages may not be made via local courier service or in person for this competition. Faxed documents will not be accepted at any time. Only proposals submitted as stated above will be considered.

Ten copies of the application should be sent to: U.S. Department of State, Ref.: Expo 2020 Dubai RFP, 2201 C Street NW, R/FO, Room 5932, Washington, DC 20520.

IV. Application Review Information

Review Process

The Expo Unit will review all proposals for technical eligibility. Proposals will be deemed ineligible if they are not submitted by a U.S. citizen, U.S.-corporation, or U.S.-based organization and do not fully adhere to the General Regulations of the Expo 2020 Dubai and the guidelines stated herein.

Eligible proposals will be subject to compliance with Federal and Department regulations and guidelines. A panel of U.S. Government employees will review eligible proposals. Proposals may also be reviewed by the Office of the Legal Adviser or by other elements in the State Department and the U.S. Department of Commerce. The decision about which proposal demonstrates the greatest likelihood of achieving the goals of the project will be at the sole discretion of the Under Secretary of State for Public Diplomacy and Public Affairs.

Review Criteria

Technically-eligible proposals will be reviewed and scored out of 100 points, according to the criteria stated below:

1. Pavilion Concept—15 points

a. Architectural and Design Merit, including how the pavilion will educate and inform foreign audiences about the United States and its people and promote broad U.S. commercial interests, as well as how specifically it will address the theme and sub-themes of Expo 2020 Dubai.

2. Fundraising Plan—35 points

a. Fundraising, including proposed plan, timeline, resources on hand, as well as potential to find and engage potential sponsors, manage sponsor relationships, and fulfill sponsorship agreements. The successful proposer must demonstrate to the Department that it can raise the funds necessary to complete the USA Pavilion project and has past fundraising success in completing time-bound, multi-year, multi-million dollar campaigns.

3. Operational Plan—10 points

a. Design, Build, Remove, including plans to project manage the pavilion.

b. Operational Plan, including program management and operational staffing before and during the Expo 2020.

c. Expenditure, including summary and line-item budget.

4. Communications and Cultural Programming—15 points

a. Proposed Domestic and International Outreach in advance of and during the Expo to raise awareness of U.S. participation in Dubai Expo 2020 and amplify exhibit messages and partners.

b. Proposed Cultural Programming Events and programs that represent the diversity of America including potential linkages to existing State Department educational and cultural programs that could run parallel to or in conjunction with the USA Pavilion.

c. Virtual Presence and Engagement of the USA Pavilion before and during the Expo.

5. Institutional Capacity—15 points

a. Program Management for design and build, and design and operation of temporary cultural and commercial exhibitions.

b. Architectural and Design Excellence, including quality and significance of the architects, curators, organizations, designs or services that the project will involve; record of professional activity and achievement by individuals/organizations involved; ability to monitor and measure the effectiveness and impact of the exhibition.

6. Regional Experience and Partnerships—10 points

a. Strategic Partners and Legacy Use, including how the USA Pavilion fits in to the strategic plans of partners for their regional engagement and expansion and reflective of past regional experience.

b. Monitoring and Project Evaluation Plan, a plan to measure the impact of the proposed U.S. exhibition, and cultural and information programs.

V. Administration Information

Selection Notices: All applicants will receive a decision notification from the Expo Unit.

Project Launch and Construction & Participation Phases: There are two phases to the project. The first phase (Project Launch) will begin by the Department issuing a Letter of Intent to the selected proposer authorizing that entity to proceed with fundraising to complete the project. The letter will include guidelines on fundraising and will establish a deadline for completion of fundraising activities. The second phase (Construction & Participation) can begin once the successful proposer is able to demonstrate that all funding required for the project is available. A Memorandum of Agreement (MOA) between the successful proposer and the Department will be concluded and the Department will conclude a Participation Contract with the Expo organizing body.

Reporting Requirement for Selected Organization

The successful proposer must provide the Expo Unit with an electronic and hard copy original plus two copies of the following reports:

1. Program and financial reports every 45 (forty-five) calendar days after the signature of the Memorandum of Agreement.

2. Final program and financial reports no more than 90 (ninety) calendar days after the scheduled April 10, 2021, closing of Expo 2020 Dubai.

VI. Agency Contacts

For questions about this announcement, contact Expo@state.gov. Correspondence with the Expo Unit concerning this Request for Proposals (RFP) should reference Expo 2020 Dubai RFP in the subject line.

Please read the complete announcement before sending inquiries or submitting proposals. Once the RFP deadline for submission of proposals has passed, Expo Unit staff may not discuss this competition with applicants until the proposal review process has been completed.

VII. Other Information

Notice

The terms and conditions published in this Request for Proposals are binding and may only be modified in writing. Issuance of this RFP does not constitute an intention to agree to work with any private sector exhibitor at Expo 2020 Dubai. The Under Secretary for Public Diplomacy and Public Affairs reserves the right to select the U.S. private sector partner for Expo 2020 Dubai and to approve all elements of the Pavilion and project. Decisions made based on proposals submitted in response to this RFP will be made in the sole discretion of the Under Secretary for Public Diplomacy and Public Affairs and will be final.

I. Steven Goldstein,
Under Secretary of State, Public Diplomacy and Public Affairs, Department of State.

Annex: Theme Statement (max 2 pages)

Title | Title of the exhibition
Exhibition Goals | The overall goals of the exhibition and the key messages that the Pavilion aims to communicate to the visitors.
Thematic Concept | A clear and comprehensive presentation of how the exhibition content relates to the theme and subthemes of Expo 2020 Dubai.
Content Descriptions | A well-described statement for the exhibition content based on the theme and subthemes: What are the main messages that the exhibition will convey to the visitors? How will the visitors experience and interact with the content? What will the visitors take away when they leave the pavilion?
Educational Program | A conceptual description of the educational programs and opportunities that will be offered to the visitors as part of the exhibition.
Architecture and Design | A preliminary overview of the design of the pavilion and exhibition areas indicating how the chosen theme and topics are creatively integrated into the space. Participants should also indicate how they plan to showcase America's unique identity, culture, and diversity in the design.
Operations | A preliminary description of how the theme and chosen subthemes are integrated into the pavilion operations.
List of Materials | A preliminary list of the types of materials that will be used in the exhibition (such as objects, artifacts, and media).
Retail | A summary of the plan regarding the products (both culinary and commercial) that the proposer will promote during the event. Proposers should clearly indicate how the retail activity captures and incorporates the theme and subthemes
Legacy Use | Description of the pavilion's legacy use and its incorporation into pavilion partners' regional presence and engagement strategies.

[FR Doc. 2018-03116 Filed 2-15-18; 8:45 am]

BILLING CODE 4710-10-P